DEPARTMENT OF HEALTH AND HUMAN SERVICES

Health Resources and Services Administration

Meeting of the National Advisory Committee on Rural Health and Human Services

AGENCY: Health Resources and Services Administration (HRSA), Department of Health and Human Services (HHS).

ACTION: Notice.

SUMMARY: The Secretary's National Advisory Committee on Rural Health and Human Services (NACRHHS) has scheduled a public meeting. Information about NACRHHS and the agenda for this meeting can be found on the NACRHHS website at https://www.hrsa.gov/advisory-committees/rural-health/index.html.

DATES:

April 3, 2019, 8:30 a.m.-5:15 p.m. Pacific Time (PT).

April 4, 2019, 8:30 a.m.-5:15 p.m. PT.

April 5, 2019, 8:30 a.m.-11:15 a.m. PT.

ADDRESSES: The meeting will be held in person. On April 3, the meeting will be held at The Residence Inn, Sacramento Downtown, 1121 15th Street, Sacramento, California 95814.

On the morning of April 4, NACRHHS will break into subcommittees. One subcommittee will travel to Northern Valley Indian Health Clinic, 207 N Butte St., Willows, California 95988. The other subcommittee will travel to Sierra Nevada Memorial Hospital, 155 Glasson Way, Grass Valley, California 95945. In the afternoon at approximately 4:00 p.m. PT, NACRHHS will reconvene at The Residence Inn, Sacramento Downtown, 1121 15th Street, Sacramento, California 95814.

On April 5, the meeting will be held at The Residence Inn, Sacramento Downtown, 1121 15th Street, Sacramento, California 95814.

FOR FURTHER INFORMATION CONTACT: Steven Hirsch, Administrative Coordinator at the Federal Office of Rural Health Policy, HRSA, 5600 Fishers Lane, 17W59D, Rockville, Maryland 20857; 301-443-7322; or shirsch@hrsa.gov.

SUPPLEMENTARY INFORMATION: NACRHHS provides advice and recommendations to the Secretary of HHS on policy, program development, and other matters of significance concerning both rural health and rural human services.

During the April 2019 meeting, NACRHHS will discuss the issues of Cancer Prevention and Control in Rural America along with Supportive Services and Caregiving for the Rural Elderly. Agenda items are subject to change as priorities dictate. Refer to the NACRHHS website for any updated information concerning the meeting.

Members of the public will have the opportunity to provide comments. Public participants may submit written statements in advance of the scheduled meeting. Oral comments will be honored in the order they are requested and may be limited as time allows. Requests to submit a written statement or make oral comments to NACRHHS should be sent to Steven Hirsch, using the contact information above at least 3 business days prior to the meeting.

Individuals who plan to attend and need special assistance or another reasonable accommodation should notify Steven Hirsch at the address and phone number listed above at least 10 business days prior to the meeting.

John R. Womack,
Acting Deputy Director, Division of the Executive Secretariat.

[FR Doc. 2019-02207 Filed 2-12-19; 8:45 am]

BILLING CODE 4165-15-P